DEPARTMENT OF THE INTERIOR

Fish and Wildlife Service

[FWS-R2-ES-2012-N025; FXES11120200000F2-134-FF02ENEH00]

Draft Environmental Impact Statement and Draft Pima County Multi-Species Habitat Conservation Plan; Pima County, AZ

AGENCY: Fish and Wildlife Service, Interior.

ACTION: Notice of availability; notice of public meetings.

SUMMARY: We, the U.S. Fish and Wildlife Service (Service), have received an application from Pima County and the Pima County Regional Flood Control District (applicants) for an incidental take permit (ITP) under the Endangered Species Act of 1973, as amended (Act). The application has been assigned permit number TE84356A. If approved, the permit would be in effect for a period of 30 years, and would authorize incidental take of 5 animal species and impacts to 2 plant species currently listed under the Act, as well as impacts to 4 candidate species and 33 species that may become listed under the Act in the future (collectively, “covered species”). The proposed incidental take or impacts would occur in Pima County and adjacent counties in Arizona, as a result of specific actions conducted under the authority of the applicants. We are making the application and associated documents available for public review, and we invite public comments.

DATES: To ensure consideration, we must receive any comments on or before March 15, 2013. We will also accept written comments at a public meeting to be held on February 21, 2013, from 4:00 p.m. to 6:00 p.m. (see address below). We must receive any requests for additional public meetings, in writing, at the address shown in the ADDRESSES section by January 7, 2013.

ADDRESSES: The public informational meeting will be held at the Pima County Natural Resources Parks and Recreation Conference Room at 3500 W. River Road, Tucson, AZ 85741. Send requests for additional public meetings to the Field Supervisor, Arizona Ecological Services Office, 2321 West Royal Palm Road, Suite 103, Phoenix, AZ 85021. To obtain documents for review and submit comments, see “Reviewing Documents and Submitting Comments” in SUPPLEMENTARY INFORMATION.

FOR FURTHER INFORMATION CONTACT: Permit Application, Draft Pima County Multi-Species Conservation Plan, draft Environmental Impact Statement, and draft Implementing Agreement: Contact Jeff Servoss, by U.S. mail at the Arizona Ecological Services Office—Tucson Suboffice, 201 N. Bonita Avenue, Suite 141, Tucson, AZ 85745; by telephone at 520-670-6150 extension 231; or by email at jeff_servoss@fws.gov. Download copies for review at: http://www.fws.gov/southwest/es/arizona.

SUPPLEMENTARY INFORMATION: Under the National Environmental Policy Act (NEPA), we advise the public that:

1. We have gathered the information necessary to determine the impacts and formulate the alternatives for the draft Environmental Impact Statement (EIS), related to the potential issuance of an Incidental Take Permit (ITP) to the Applicants; and

2. Pima County has developed a draft habitat conservation plan—the Pima County Multi-Species Conservation Plan (MSCP), which describes the measures Pima County has agreed to implement to minimize and mitigate the effects of the proposed incidental take of federally listed species, and unlisted covered species, to the maximum extent practicable, pursuant to section 10(a)(1)(B) of the Endangered Species Act (16 U.S.C. 1531 et seq.) (Act).

If approved, the 30-year ITP would authorize incidental take of 40 animal species. Among the 40 species are 5 species currently listed under the Act:

• Southwestern willow flycatcher (Empidonax traillii extimus)

• Lesser long-nosed bat (Leptonycteris curasoae yerbabuenae)

• Gila topminnow (Poeciliopsis occidentalis)

• Gila chub (Gila intermedia)

• Chiricahua leopard frog (Lithobates chiricahuensis)

Also among the 40 species are 4 candidate species:

• Northern Mexican gartersnake (Thamnophis eques megalops)

• Western yellow-billed cuckoo (Coccyzus americanus)

• Tucson shovel-nosed snake (Chionactis occipitalis klauberi)

• Desert tortoise, Sonoran population (Gopherus agassizii)

The 40 species also include 31 species that would be covered should they become listed under the Act within the term of the permit:

• Mexican long-tongued bat (Choeronycteris mexicana)

• Western red bat (Lasiurus blossevillii)

• Southern yellow bat (Lasiurus xanthinus)

• California leaf-nosed bat (Macrotus californicus)

• Pale Townsend's big-eared bat (Plecotus townsendii pallescens)

• Merriam's mouse (Peromyscus merriami)

• Burrowing owl (Athene cunicularia hypugaea)

• Cactus ferruginous pygmy-owl (Glaucidium brasilianum cactorum)

• Rufous-winged sparrow (Aimophila carpalis)

• Swainson's hawk (Buteo swainsoni)

• Abert's towhee (Pipilo aberti)

• Bell's vireo (Vireo bellii)

• Desert box turtle (Terrapene ornata luteola)

• Ground-snake (Sonora semiannulata)

• Giant spotted whiptail (Aspidoscelis burti stictogramma)

• Lowland leopard frog (Lithobates yavapaiensis)

• Longfin dace (Agosia chrysogaster)

• Desert sucker (Catostomus clarki)

• Sonora sucker (Catostomus insignis)

• San Xavier talus snail (Sonorella eremite)

• Talus snail species (Sonorella ambigua ambigua syn. papagorum)

• Talus snail species (Sonorella imperatrix)

• Talus snail species (Sonorella imperialis)

• Talus snail species (Sonorella magdalenensis syn. tumamocensis)

• Talus snail species (Sonorella odorata odorata syn. Marmoris)

• Talus snail species (Sonorella insignis)

• Talus snail species (Sonorella rinconensis)

• Talus snail species (Sonorella sabinoenis buehmanensis)

• Talus snail species (Sonorella sabinoensis tucsonica)

• Talus snail species (Sonorella sitiens sitiens)

• Talus snail species (Sonorella tortillita)

Although take of listed plant species is not prohibited under the Act, plant species may be included in a habitat conservation plan to formally document the conservation benefits provided to them through that process. The applicants propose four plant species for coverage under their MSCP, including two listed species (Huachuca water umbel (Lilaeopsis schaffneriana recurva) and Pima pineapple cactus (Coryphantha scheeri var. robustispina)) and two unlisted species (needle-spined pineapple cactus (Echinomastus erectocentrus var. erectocentrus) and Tumamoc globeberry (Tumamoca macdougalii)).

The proposed incidental take would occur within Pima County, Arizona, as a result of impacts from actions occurring under the authority of the applicants. The applicants have completed a draft habitat conservation plan as part of the application package, as required by the Act. The application and associated documents describe measures the applicants have agreed to implement to minimize and mitigate—to the maximum extent practicable—the effects of the proposed incidental take of covered species and impacts to habitats on which they depend. The draft EIS considers the direct, indirect, and cumulative effects of the proposed action of permit issuance, including the measures that will be implemented to minimize and mitigate such impacts to the maximum extent practicable.

Background

In the past 50 years, Pima County, Arizona, has had one of the fastest growing human populations of any county in the United States (an increase of just under 500 percent), as a result of a sunny climate, natural beauty, and economic opportunities. Urban growth has resulted in significant development, which is expected to continue in the foreseeable future. A significant proportion of the predicted future development is anticipated to occur in the undeveloped or underdeveloped areas, particularly in the eastern portion of the county.

The presence of threatened and endangered species in the areas of potential land development creates regulatory concerns in Pima County. Interest in conservation and its potential related costs (e.g., land acquisition or set-asides) is found across many segments of the community, ranging from environmental advocates promoting strengthened protections, to members of the business community, the development industry, and real estate profession, all of whom may be concerned about potential economic impacts. Landowners and private property interests are concerned about how their land-use decisions can potentially be affected by the presence of federally listed threatened and endangered species.

A long-term solution to ensure compliance with the Act, particularly in areas such as Pima County, where there are multiple listed and unlisted species of concern, is to develop a multi-species habitat conservation plan (MSCP). The Pima County MSCP proposes a combination of long-term and short-term actions and long-range planning to protect and enhance the natural environment. The Pima County MSCP would help guide public investments in both infrastructure and conservation, as well as establish the applicants' preferences for the expenditure of funds to preserve and reduce the threats posed by urbanization to habitat through ranch conservation and open space programs. If the Service approves the ITP, the applicants would commit to a series of measures that would avoid, minimize, and mitigate impacts of covered activities on the covered species. The commitments vary according to the alternatives described below and would have differing impacts on socioeconomics, habitat, and other aspects of the environment.

The objective of the Pima County MSCP is to achieve a balance between:

• Long-term conservation of the diversity of natural vegetation communities and native species of plants and animals that make up an important part of the natural heritage and allure of Pima County; and

• The orderly use of land to promote a sustainable economy, health, well-being, customs, and culture of the growing population of Pima County.

In addition, the Pima County MSCP has been designed to:

• Meet the requirements for the applicants to receive an ITP—pursuant to section 10 of the Act—that would allow for the incidental take of threatened and endangered species while engaging in otherwise lawful activities.

• Provide conservation benefits to species and ecosystems in Pima County that would not otherwise occur without the MSCP.

• Maximize flexibility and available options in developing mitigation and conservation programs.

• Minimize uncoordinated decision making, which can result in incremental habitat loss and inefficient project review.

• Provide a decision-making framework that minimizes habitat loss and maximizes the efficiency of public-sector projects.

• Provide the applicants and their community stakeholders (participants) with long-term planning assurances.

• Cover an appropriate range of activities under the permit.

• Reduce the regulatory burden of compliance with the Act for the applicants and all affected participants.

• Avoid, minimize, and mitigate for the impacts of activities that would result in take of threatened and endangered species and provide long-term management and monitoring programs to help ensure program effectiveness.

• Designate the funding that would be available to implement the Pima County MSCP over the entirety of its proposed term.

Purpose and Need for Action

We prepared the draft EIS to respond to the applicants' request for an ITP for the proposed covered species related to activities that have the potential to result in incidental take. The need for this action is based on the potential that activities proposed by the applicants on lands under their jurisdiction could result in incidental take of covered species, thus requiring an ITP. Section 9 of the Act prohibits the “taking” of threatened and endangered species. We are authorized, however, under limited circumstances, to issue permits to take federally listed species, when such a taking is incidental to, and not the purpose of, otherwise lawful activities. Regulations governing permits for endangered and threatened species are in the Code of Federal Regulations (CFR) at 50 CFR 17.22 and 17.32, respectively. The term “take” under the Act means to harass, harm, pursue, hunt, shoot, would, kill, trap, capture, or collect endangered and threatened species, or to attempt to engage in any such conduct. Our regulations define “harm” as significant habitat modification or degradation that results in death or injury to listed species by significantly impairing essential behavioral patterns, including breeding, feeding, or sheltering (50 CFR 17.3). The proposed ITP would authorize incidental take that is consistent with the conservation guidelines in the applicants' MSCP. The development and implementation of the MSCP will ensure that the Applicants meet the criteria for issuance of the ITP found in section 10(a)(1)(B) of the Act:

1. The taking will be incidental;

2. The applicants will, to the maximum extent practicable, minimize and mitigate the impact of such taking;

3. The applicants will develop a proposed conservation plan and ensure that adequate funding for the plan will be provided;

4. The taking will not appreciably reduce the likelihood of the survival and recovery of the species in the wild; and

5. The applicants will carry out any other measures that the Service may require as being necessary or appropriate.

Proposed Action

The proposed action is the issuance of an ITP for covered species within the permit area, principally located in Pima County, Arizona, under section 10(a)(1)(B) of the Act. Incidental take anticipated under this ITP application is species- and location-specific, and may include lethal take of individuals, as well as take in the form of harm through habitat loss or modification. The applicants would develop and implement the MSCP, as required by section 10(a)(2)(A) of the Act. The MSCP will describe the measures the applicants have agreed to implement to minimize and mitigate the effects of the proposed incidental take on covered species and their habitats. The goal of the MSCP is to provide long-term protection for multiple species of concern by avoiding, minimizing, and mitigating covered impacts; improving habitat conditions and ecosystem functions necessary for their survival; and to ensure that any incidental take of listed species will not reduce the likelihood of their survival and recovery in the wild.

The requested duration of the ITP is 30 years. The areas covered by the proposed ITP include: (1) Lands owned by the applicants, including those within the cities and towns of Tucson, Marana, Oro Valley, and Sahuarita, and adjacent counties; (2) lands where the applicants construct or maintain infrastructure, including lands within the cities and towns of Tucson, Marana, Oro Valley, and Sahuarita, and adjacent counties; (3) State lands that are or would be leased by the applicants or used as road easements; (4) private lands in unincorporated Pima County under the regulatory authority of the applicants; and (5) certain State Trust and Federal lands for which the title has been acquired by private entities or the applicants and thus have become subject to regulatory control of the applicants. Activities proposed for coverage under the ITP include, but are not limited to, undertakings by the applicants such as construction and maintenance activities and certain permits and approvals issued that allow for ground disturbance on privately owned properties. The proposed MSCP includes an opt-in program whereby certain private entities, on a voluntary basis, could gain coverage for their lands under the applicants' ITP. The total acreage of impact for all covered activities would be capped at 36,000 acres.

Alternatives

The following is a brief summary of the four alternatives evaluated in the draft EIS and draft MSCP (for details, refer to those documents):

1. No Action Alternative. The applicants would not request and the Service would not issue a Section 10(a)(1)(B) permit. This alternative would require the applicants and developers of certain privately owned lands to evaluate each project or action on a case-by-case basis to address issues under the Act and avoid take of federally listed species. This alternative is the baseline against which the effects of the other alternatives are compared.

2. Permit for Applicants' Activities Only. The Service would issue a section 10(a)(1)(B) permit for coverage of 44 species that would apply only to activities that the applicants undertake.

3. Permit for Applicants' Activities and Automatic Coverage of Private Development Activities for which the County issues permits and approvals. Under this alternative, the Service would issue a section 10(a)(1)(B) permit for coverage of 44 species that would apply to activities that the applicants undertake, and would also cover most ground-disturbing private development within unincorporated Pima County, at no additional cost to the developer, for which the county issues a permit or approves a plan.

4. Preferred Alternative: Permit for Applicants' Activities and Certain Private Development Activities, some of which gain permit coverage with an opt-in provision. The Service would issue a section 10(a)(1)(B) permit for coverage of 44 species that would apply to activities that the applicants undertake, that would confer automatic coverage to a specified set of private development activities, and would confer coverage to certain private development activities where the developer voluntarily exercises the opt-in provision.

Public Comments

We request data, comments, new information, or suggestions from the public, other concerned governmental agencies, the scientific community, Tribes, industry, or any other interested party regarding this notice. We will consider these comments in developing a final EIS, final MSCP, and the incidental take permit (ITP). We particularly seek comments on the following:

1. Additional biological information relevant to the species, including information concerning the range, distribution, population size, and population trends of the species;

2. Current or planned activities in the subject area and their possible impacts on the species;

3. The presence of archeological sites, buildings and structures, historic events, sacred and traditional areas, and other historic preservation concerns, which are required to be considered in project planning by the National Historic Preservation Act; and

4. Identification of any other environmental issues that should be considered with regard to the proposed MSCP and permit decision.

Reviewing Documents

Please refer to TE84356A when requesting documents or submitting comments.

Downloadable copies of the draft MSCP and draft Implementing Agreement (IA) may be found on the Internet at http://www.pima.gov/cmo/sdcp/MSCP/MSCP.html and the draft EIS is available at http://www.fws.gov/southwest/es/arizona. For those without access to the Internet, a printed or CD-ROM copy of these documents is available upon request to Ms. Julia Fonseca, Pima County Office of Sustainability and Conservation, 201 N. Stone, 6th floor, Tucson, AZ 85701, phone (520) 740-6460, or email mscp@pima.gov. Additionally, persons wishing to review the draft MSCP, draft IA, and draft EIS may obtain copies by calling or faxing the U.S. Fish and Wildlife Service (520-670-6144, phone; 520-670-6155 fax).

The application, draft MSCP, draft IA, and draft EIS will also be available for public inspection, by appointment, during normal business hours (8 a.m. to 4:30 p.m.) at the Arizona Ecological Services Office, 2321 West Royal Palm Road, Suite 103, Phoenix, AZ 85021.

Submitting Comments

During the public comment period (see DATES), submit your written comments or data to the Field Supervisor at the Phoenix address above. Comments will also be accepted by fax at the number above, as well as by email to PimaMSCP@fws.gov with the subject line “Pima County Draft MSCP and Draft EIS.”

Comments submitted are available for public review at the Tucson address listed under FOR FURTHER INFORMATION CONTACT. This generally means that any personal information you provide to us will be available to anyone reviewing the public comments (see the Public Availability of Comments section below for more information).

Copies of the draft MSCP, draft IA, and draft EIS are also available for public inspection and review at the locations listed below:

• Pima County Public Library, Miller-Golf Links Branch Library 9640 E. Golf Links Road, Tucson, AZ 85730

• Pima County Public Library, Joel D. Valdez Main Library 101 North Stone Avenue, Tucson, AZ 85701

• Pima County Public Library, Caviglia-Arivaca Branch Library 17050 W. Arivaca Rd., Arivaca, AZ 85601

• Pima County Public Library, Sahuarita Branch Library 725 W. Via Rancho Sahuarita, Sahuarita, AZ 85629

• Pima County Public Library, Salazar-Ajo Branch Library 33 Plaza, Ajo, AZ 85321

• Pima County Public Library, Geasa-Marana Branch Library 13370 N. Lon Adams Rd., Marana, AZ 85653

• Pima County Office of Sustainability and Conservation (by appointment only) 201 N. Stone, 6th floor, Tucson, AZ 85701

Public Availability of Comments

Written comments we receive become part of the public record associated with this action. Before including your address, phone number, email address, or other personal identifying information in your comment, you should be aware that the entire comment—including your personal identifying information—may be made publicly available at any time. While you can ask us in your comment to withhold your personal identifying information from public review, we cannot guarantee that we will be able to do so.

Authority

We provide this notice under section 10(c) of the Act (16 U.S.C. 1531 et seq.) and its implementing regulations (50 CFR 17.22 and 17.32), and NEPA (42 U.S.C. 4371 et seq.) and its implementing regulations (40 CFR 1506.6).

Joy E. Nicholopoulos,
Acting Regional Director, Southwest Region, Albuquerque, New Mexico.

[FR Doc. 2012-29391 Filed 12-6-12; 8:45 am]

BILLING CODE 4510-55-P